DEPARTMENT OF THE INTERIOR

Bureau of Land Management

[17X LLIDB00100 LF1000000.HT0000 LXSIOVHD0000 4500104754]

Notice of Public Meeting, Boise District Resource Advisory Council, Idaho

AGENCY: Bureau of Land Management, Interior.

ACTION: Notice of public meetings.

SUMMARY: In accordance with the Federal Land Policy and Management Act (FLPMA) and the Federal Advisory Committee Act of 1972 (FACA), the U.S. Department of the Interior, Bureau of Land Management (BLM) Boise District Resource Advisory Council (RAC) will meet as indicated below.

DATES: The Boise District RAC will meet on September 14, 2017, and on November 17, 2017.

ADDRESSES: Both meetings of the Boise District RAC will take place at the BLM Boise District Office, 3948 Development Avenue, Boise, Idaho 83705.

FOR FURTHER INFORMATION CONTACT: Michael Williamson, BLM Boise District, Idaho; 3948 Development Avenue, Boise, Idaho 83705; 208-384-3393; mwilliamson@blm.gov. Persons who use a telecommunications device for the deaf (TDD) may contact Mr. Williamson by calling the Federal Relay Service (FRS) at 800-877-8339. The FRS is available 24 hours a day, 7 days a week, to leave a message or question with Mr. Williamson. You will receive a reply during normal business hours.

SUPPLEMENTARY INFORMATION: The 15-member RAC advises the Secretary of the Interior, through the BLM, on a variety of planning and management issues associated with public land management in Idaho.

The September 14 meeting will begin at 7:00 a.m. and end no later than 5:00 p.m. and will involve a field tour of several locations throughout the Four Rivers Field Office. The public comment period will take place from 7:02 a.m. to 7:30 a.m. During this meeting, the Boise District RAC will visit locations to discuss the Four Rivers Field Office Resource Management Plan, the Paradigm Fuel Break Project, herbicide environmental analysis, and other field office issues. Additional topics may be added and will be included in local media announcements. The public will need to provide their own transportation if they wish to accompany the field trip.

The November 17 meeting will begin at 9:00 a.m. and end no later than 4:00 p.m. The public comment period will take place from 11:00 a.m. to 11:30 a.m. During this meeting, the Boise District RAC will receive updates on the Wild Horse and Burro program, travel management planning, Fire program, Soda Fire rehabilitation, Tri-State fuel break project, and other field office updates. Additional topics may be added and will be included in local media announcements.

RAC meetings are open to the public. The public may present written comments to the Council at the address listed in the ADDRESSES section of this notice. Each formal Council meeting will also have time allocated for hearing public comments. Depending on the number of persons wishing to comment and time available, the time for individual oral comments may be limited.

Before including your address, phone number, email address, or other personal identifying information in your comments, you should be aware that your entire comment, including your personal identifying information, may be made publicly available at any time.

While you can ask us in your comment to withhold your personal identifying information from public review, we cannot guarantee that we will be able to do so.

Individuals who plan to attend and need special assistance, such as sign language interpretation, tour transportation or other reasonable accommodations, should contact the BLM as provided above.

Authority: 43 CFR 1784.4-2.

Lara Douglas,
District Manager.

[FR Doc. 2017-18701 Filed 9-1-17; 8:45 am]

BILLING CODE 4310-GG-P